DEPARTMENT OF TRANSPORTATION

Federal Highway Administration

Hunts Point Interstate Access Improvement Project; Comment Period Extension

AGENCY: Federal Highway Administration (FHWA), DOT.

ACTION: Notice of availability of Draft Environmental Impact Statement (DEIS) for the Hunts Point Access Improvement Project; extension of comment period.

SUMMARY: The FHWA is extending the comment period for a notice of availability for a DEIS for the Hunts Point Access Improvement Project, which was published on June 1, 2018. The original comment period is set to close on July 16, 2018. The extension is based on the FHWA's desire to allow interested parties sufficient time to review and provide comprehensive comments on this DEIS. Therefore, the closing date for comments is changed to July 31, 2018, which will provide those interested in commenting additional time to discuss, evaluate, and submit responses.

DATES: The comment period for the notice of availability for the DEIS for the Hunts Point Access Improvement Project, which was published on June 1, 2018, at 83 FR 25451, is extended. Comments must be received on or before July 31, 2018.

ADDRESSES: Requests for further information or submission of comments regarding the Project may be sent to huntspoint@dot.ny.gov or the individuals listed below.

Erik Koester, P.E., Project Director, Region 11, NYS Department of Transportation, 47-40 21st Street, Long Island City, NY 11101, Phone (718) 482-4683

Sara Gross, P.E., Area Engineer, Federal Highway Administration, Leo O'Brien Federal Building, 11A Clinton Avenue, Suite 719, Albany, NY 12207, Phone: (518) 431-4127

SUPPLEMENTARY INFORMATION:

Background

On June 1, 2018, at 83 FR 25451, a notice of availability, including a Draft Environmental Impact Statement for the Hunts Point Access Improvement Project, published in the Federal Register. The New York State Department of Transportation (NYSDOT), in cooperation with the FHWA, has prepared a Draft Design Report/Draft Environmental Impact Statement/Draft Section 4(f) Evaluation (DDR/DEIS) for the Hunts Point Interstate Access Improvement Project (Project). The Project has been advanced in accordance with the requirements of the Council on Environmental Quality regulations for implementing the procedural provisions of the National Environmental Policy Act (NEPA) (40 CFR parts 1500 through 1508), the FHWA Environmental Impact and Related Procedures; Final Rule (23 CFR part 771), and the NYSDOT Procedures for Implementation of the State Environmental Quality Review Act at 17 New York Codes, Rules, and Regulations Part 15.

The Project is located on and in the immediate vicinity of the Hunts Point Peninsula in Bronx County, New York. The purpose of the Project is to provide improved access between the Hunts Point Peninsula and Sheridan Boulevard and the Bruckner Expressway for automobiles and trucks traveling to and from the commercial businesses located on the peninsula. In addition, the Project will address structural and operational deficiencies related to the existing infrastructure within the established project limits.

The DDR/DEIS describes the Project; the consideration of social, economic, and environmental effects that would result from implementation of the Project; and measures to mitigate adverse effects.

The DDR/DEIS will be available for review during business hours at the following locations on and after June 1, 2018:

• Hunts Point Public Library, 877 Southern Boulevard, Bronx, NY

• Bronx Library Center, 310 East Kingsbridge Road, Bronx, NY

• West Farms Branch Library, 2085 Honeywell Avenue, Bronx, NY

• Soundview Library, 660 Soundview Avenue, Bronx, NY

• Parkchester Library, 1985 Westchester Avenue, Bronx, NY

• Bronx Community Board 1, 3024 Third Avenue, Bronx, NY

• Bronx Community Board 2, 1029 E 163 Street, Bronx, NY

• Bronx Community Board 3, 1426 Boston Road, Bronx, NY

• Bronx Community Board 6, 1932 Arthur Avenue, Rm. 403-A, Bronx, NY

• Bronx Community Board 9, 1967 Turnbull Avenue #7, Bronx, NY

• Casita Maria, 928 Simpson Street, Bronx, NY

• The Point, 940 Garrison Avenue, Bronx, NY

• Bronx Borough Hall, 851 Grand Concourse, Bronx, NY

The DDR/DEIS may also be accessed at https://www.dot.ny.gov/SouthBronx.

Authority: 40 CFR 1506.9 and 10.

Issued on: July 13, 2018.
Christopher Gatchell,
Director, Office of Engineering, Federal Highway Administration, New York Division.

[FR Doc. 2018-15416 Filed 7-16-18; 4:15 pm]

BILLING CODE 4910-22-P